DEPARTMENT OF AGRICULTURE

Forest Service

Proposed New Recreation Fee Site

AGENCY: Forest Service, Agriculture (USDA).

ACTION: Notice.

SUMMARY: The Superior National Forest is proposing to establish a new recreation fee site. Recreation fee revenues collected at the new recreation fee site would be used for operation, maintenance, and improvement of the site. An analysis of nearby recreation fee sites with similar amenities shows the recreation fee that would be charged at the new recreation fee site is reasonable and typical of similar recreation fee sites in the area.

DATES: If approved, the new recreation fee would be implemented no earlier than six months following the publication of this notice in the Federal Register.

ADDRESSES: Superior National Forest, 8901 Grand Avenue Place, Duluth, MN 55808.

FOR FURTHER INFORMATION CONTACT: Tim Engrav, Acting Recreation Fee Manager, 218-666-0025 or timothy.engrav@usda.gov.

SUPPLEMENTARY INFORMATION: The Federal Lands Recreation Enhancement Act (16 U.S.C. 6803(b)) requires the Forest Service to publish a six-month advance notice in the Federal Register of establishment of new recreation fee sites. In accordance with Forest Service Handbook 2309.13, chapter 30, the Forest Service will publish the proposed new recreation fee site in local newspapers and other local publications for public comment. Most of the new recreation fee revenues would be spent where they are collected to enhance the visitor experience at the new recreation fee site. An expanded amenity recreation fee of $150 per night would be charged for rental of Wolf Island Cabin.

Expenditures from recreation fee revenues collected at the new recreation fee site would enhance recreation opportunities, improve customer service, and address maintenance needs. Once public involvement is complete, the new recreation fee will be reviewed by a Recreation Resource Advisory Committee prior to a final decision and implementation. Reservations for Wolf Island Cabin could be made online at www.recreation.gov or by calling 877-444-6777. Reservations would cost $8.00 per reservation.

Dated: November 17, 2023.
Jacqueline Emanuel,
Associate Deputy Chief, National Forest System.

[FR Doc. 2023-25868 Filed 11-22-23; 8:45 am]

BILLING CODE 3411-15-P